DEPARTMENT OF TRANSPORTATION

Federal Transit Administration

[FTA Docket No. 2011-0045]

Agency Information Collection Activity Under OMB Review

AGENCY: Federal Transit Administration, DOT.

ACTION: Notice of request for comments.

SUMMARY: The Federal Transit Administration invites public comment about our intention to request the Office of Management and Budget's (OMB) approval for the following new information collection:

49 U.S.C. Section 5308—Clean Fuels Grant Program

The information collected will support the development and deployment of clean fuel and advanced propulsion technologies for transit buses. To meet program oversight responsibilities, FTA needs information on the operation and performance of clean fuel technology buses. The Federal Register Notice with a 60-day comment period soliciting comments was published on May 6, 2011.

DATES: Comments must be submitted before September 2, 2011. A comment to OMB is most effective if OMB receives it within 30 days of publication.

FOR FURTHER INFORMATION CONTACT: LaStar Matthews, Office of Administration, Office of Management Planning, (202) 366-2295.

SUPPLEMENTARY INFORMATION: Title: 49 U.S.C. Section 5308—Clean Fuels Grant Program (OMB Number: 2132-NEW).

Abstract: The Section 5308 Clean Fuels Grant Program was initiated as a formula program under the Transportation Equity Act for the 21st Century (TEA-21) in June 1998. The program was reauthorized in August 2005 under the Safe, Accountable, Flexible, Efficient Transportation Equity Act: A Legacy for Users (SAFETEA-LU) as a grant program. The program supports the development and deployment of clean fuel and advanced propulsion technologies for transit buses by providing funds for clean fuel vehicles and facilities. To meet program oversight responsibilities, FTA needs information on the operations and performance of clean fuel technology buses to help assess the reliability, benefits and costs of these technologies compared to conventional vehicle technologies.

Estimated Total Annual Burden: 1,644 hours.

ADDRESSES: All written comments must refer to the docket number that appears at the top of this document and be submitted to the Office of Information and Regulatory Affairs, Office of Management and Budget, 725—17th Street, NW., Washington, DC 20503, Attention: FTA Desk Officer.

Comments are Invited On: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

Issued on: July 28, 2011.
Ann M. Linnertz,
Associate Administrator for Administration.

[FR Doc. 2011-19658 Filed 8-2-11; 8:45 am]

BILLING CODE